DEPARTMENT OF TRANSPORTATION

Federal Aviation Administration

[Docket No. FAA-2003-16171]

Aircraft Rescue and Fire Fighting (ARFF) Mobile Live Fire Training Simulators

AGENCY: Federal Aviation Administration (FAA), Department of Transportation (DOT).

ACTION: Notice of proposed policy; request for comments.

SUMMARY: The FAA issues regulations and prescribes standards for the training of aircraft rescue and fire fighters (ARFF) on United States airports certificated under 14 Code of Federal Regulations part 139. One of the requirements of part 139 is for all ARFF personnel to participate in at least one live-fire drill every 12 months. As guidance for airport operators in providing this training, the FAA issued standards for different size fire training facilities based on the largest air carrier aircraft serving the airport. With the introduction of new technologies, ARFF personnel have the option to train on both mobile as well as fixed training facilities. At the larger airports, known as Index C, Index D, and Index E, FAA has found that the live fire drill requirement in part 139 can be satisfied by training on mobile facilities as often as every other year. Otherwise, the training for those size airports is conducted on the larger fixed facilities. We have been asked by the larger airports to find that training on the smaller mobile fire fighter trainers every year, rather than just every other year, would meet the requirements of part 139. To this end, we are seeking comments on the adequacy of mobile ARFF trainers for meeting the annual live fire drill requirement at index C, D, and E airports. Based on these comments, we will issue an opinion on the acceptability of mobile trainers for annual live-fire training for these airports.

DATES: Comments must be received by November 17, 2003.

ADDRESSES: Persons may mail their comments to: U.S. Department of Transportation Dockets, Docket No. FAA-XX-XXXX, 400 Seventh St., SW., Plaza Room 401, Washington, DC 20590. Comments may also be sent electronically to the Dockets Management System (DMS) at the following internet address: http://dms.dot.gov. at anytime. Commenters who wish to file comments electronically, should follow the instructions on the DMS web site. Comments may be filed and/or examined at the Department of Transportation Dockets, Plaza Room 401 between 10 a.m. and 5 p.m. weekdays except Federal holidays.

FOR FURTHER INFORMATION CONTACT: Ken Gilliam, Senior Fire Fighting Specialist, Airport Safety and Operations Division, AAS-300, Federal Aviation Administration 800 Independence Ave., SW., Washington, DC 20591, telephone (407) 812-6331, ext. 34.

SUPPLEMENTARY INFORMATION: The FAA invites comments on the question, “Should the use of Mobile Aircraft Fire Trainers be considered to meet the requirements of Part 139 every year?”

The 1988 revision of 14 Code of Federal Regulations part 139, Certification and Operations: Land Airports Serving Certain Air Carriers, section 139.319(j)(3) requires “All rescue and fire fighting personnel participate in at least one live fire drill every 12 months.” 52 FR 44276 (Nov. 18, 1997) (effective Jan. 1, 1988). At the time this rule was promulgated, hydrocarbon fuels, such as diesel or jet-A, fueled the training facilities. In the early 1990s, Federal and State environmental protection agencies began banning such facilities because of ground contamination from the fuel. As a result, the FAA assisted in developing Liquid Propane Gas (LPG) fire facilities. The FAA funded these facilities throughout the country. The FAA refers to them as regional training facilities because mostly, they were intended to serve an area of more than one state. The aim is for a fire fighter to travel to the nearest training facility and receive both classroom and live fire training. FAA's position has been that all ARFF personnel should be exposed to live ground fuel fire fighting, either at their home airport or at a regional training facility. The size of the fire at a training facility was to be commensurate with the type of air carrier service that could be expected to service the airport of the ARFF personnel.

Part 139 requirements for aircraft rescue and fire fighting generally are based on the length of air carrier aircraft serving a particular airport. Index A airports receive air carrier aircraft less than 90 feet long. Index B airports receive air carrier aircraft 90 feet long but less than 126 feet. Index C airports receive air carrier aircraft 126 feet long to 158 feet. Index D airports receive air carrier aircraft 159 feet long to 199 feet. Index E airports receive air carrier aircraft 200 feet or longer. FAA has taken the position that fire fighters at large airports, such as Index C, D, and E, should be exposed to a larger fire than fire fighters at smaller airports. This, logically, is due to the fact that much larger air carrier aircraft operate at the larger airports, and in the event of an incident involving fire, a larger fire would likely result. The size of the Practical Critical Fire Area (PCA) specified by the FAA and the International Civil Aviation Organization (ICAO) reflects this possibility of a larger fire at airports served by larger aircraft. Advisory Circular (AC) 150/5210-6C, Aircraft fire and Rescue Facilities and Extinguishing Agents, describes the PCA and its origin. AC 150/5220-17A, Design Standards for an Aircraft Rescue and Fire Fighting Training Facility, describes the size of the fire training facility relative to the PCA. The AC recommends the larger index C, D, and E airport fire fighters train on much larger pool fires than the mobile units provide. When flammable liquid hydrocarbons (FLH) are burned in the training facility, the size of the burn pit should be roughly 10,000 square feet for an Index C airport; roughly 14,500 square feet for Index D; and 18,000 square feet for Index E. The AC also contains procedures (Discharge Rate Method) for reducing the size of these fire pits under certain circumstances. When a training facility uses an LPG simulator, rather than FLH, FAA determined that a 12,200 square foot fire pit is suitable for training Index C through E airport fir fighters.

In the mid-1990's, industry, with the assistance of FAA, developed a mobile fire training simulator that could be transported from airport to airport on trucks. The simulations allowed for engine fires, interior fires, wheel well fires, and cargo hold fires. However, one of the drawbacks of the first models of the mobile simulator was that they did not provide for a ground fire. In the late 1990's, industry was able to develop a grid system ancillary to the simulator that provided a ground fire of limited size.

Some of the advantages and disadvantages of using Mobile Aircraft Fire Trainers for annual training by all airports are as follows.

Advantages:

• Mobile Trainers provide realistic and repeatable interior and exterior aircraft-related fire scenarios such as galley, cabin, wheel, engine, and cargo type fires.

• These scenarios can be ordered with pan fires presented in different configurations totaling up to 2,600 square feet. (These same training scenarios can also be provided by the large fixed facilities since they can install the same props.)

• Fire fighters can train with their own equipment.

• The airport fire fighters can train with local mutual air responders.

• There is more time to train with the equipment since there is no travel time to the training facility.

• Training can be done over several days without incurring added expenses of travel and per diem.

Disadvantages:

• Fixed facilities are usually able to afford better classroom training than is available at local sites.

• As more mobile units come on line providing more economical training and greater mobility, the large fixed facilities may further decline in use.

• A Mobile Aircraft Fire Trainer is limited to roughly 2600 square feet in ground fire to remain mobile. (However, some of the large fixed LPG facilities only burn ¼ of the pit at a time during a training exercise. This is not true for hydrocarbon fuel pits since once the pit is lit, the entire pit has to burn. For example, the 10,000 square foot requirement for the index C airport using propane would only use 2,500 square feet. This is considered adequate because, when the attack is made on a 10,000 square foot fire, the fire fighter will only see ¼ of the fire at any given time. The cost of fuel is another reason for this practice. Based on the above facts, a mobile unit with 2,600 square feet of fire burn area would be sufficient for a larger index airport for training each year if it were used properly.)

Recognizing the Mobile Aircraft Fire Trainer technology, FAA issued Certalert No. 96-01, Annual Live Fire Drill Qualification, dated October 23, 1996. This certalert confirmed the appropriateness, under certain limitations for large size airports, to use interior/exterior fire training simulators, either stationary or mobile, as a means of meeting part 139 training requirements. The FAA is not proposing to mandate the use of the mobile simulator, but rather to interpret the annual use of mobile simulators as meeting the requirements of part 139, if the airport operator wants to use that option. To this end, we seek comments on the advisability of such a proposal.

Issued in Washington, DC on September 12, 2003.
David L. Bennett,
Director, Office of Airport Safety and Standards.

[FR Doc. 03-23873 Filed 9-17-03; 8:45 am]

BILLING CODE 4910-13-M